DEPARTMENT OF AGRICULTURE

Agricultural Marketing Service

[Doc. No. AMS-FGIS-24-0056]

Opportunity To Comment on Applicants for the Southeast Texas U.S. Grain Standards Act Designation Area

AGENCY: Agricultural Marketing Service, USDA.

ACTION: Notice and request for comments.

SUMMARY: Midsouth Grain Inspection Service and Grain Inspection Services of Texas, LLC have applied for designation under the U.S. Grain Standards Act to provide official services in the Southeast Texas designation area. The geographic area is described in the SUPPLEMENTARY INFORMATION section below. The Agricultural Marketing Service (AMS) is asking for comments on these applicants.

DATES: Comments must be received by October 1, 2024.

ADDRESSES: Interested persons are invited to submit written comments concerning this notice and view the applications:

To Submit Comments: Go to Regulations.gov (https://www.regulations.gov). Instructions for submitting and reading comments are detailed on the site. All comments must be submitted through the Federal e-rulemaking portal at https://www.regulations.gov and should reference the document number and the date and page number of this issue of the Federal Register. All comments submitted in response to this notice will be included in the record and will be made available to the public. Please be advised that the identity of the individuals or entities submitting comments will be made public on the internet at the address provided above.

To Read Applications and Comments: If you would like to view the applications, please contact us at FGISQACD@usda.gov. All comments will be available for public inspection online at https://www.regulations.gov.

FOR FURTHER INFORMATION CONTACT: Jennifer Weiland, Grain Marketing Specialist, Telephone 202-989-5995; Email: jennifer.j.weiland@usda.gov or FGISQACD@usda.gov.

SUPPLEMENTARY INFORMATION: In the July 18, 2024 edition of the Federal Register (89 FR 58327), AMS requested applications from persons interested in providing official services under the U.S. Grain Standards Act in the Southeast Texas designation area. There are two applicants for the Southeast Texas area: Midsouth Grain Inspection Service (Midsouth Grain) and Grain Inspection Services of Texas, LLC (Texas Grain). Both applicants are currently designated official agencies and both applicants have applied for the entire unassigned area.

The Southeast Texas designation area includes the following counties in Texas: Aransas, Bee, Brazoria, Brooks, Calhoun, Cameron, Chambers, Colorado, Dimmit, Duval, Fort Bend, Galveston, Goliad, Harris, Hidalgo, Jackson, Jefferson, Jim Hogg, Jim Wells, Kennedy, Kleberg, La Salle, Live Oak, Matagorda, McMullen, Nueces, Refugio, San Patricio, Starr, Victoria, Waller, Webb, Wharton, Willacy, and Zapata. This area excludes any established or future export port locations, which are serviced by the Federal Grain Inspection Service.

This notice provides interested persons the opportunity to comment on the quality of services provided by Midsouth Grain and Texas Grain. In the designation process, we are particularly interested in receiving comments citing reasons and pertinent data supporting or objecting to the designation of the applicant(s). All comments should be submitted through the Federal e-rulemaking portal at https://www.regulations.gov.

AMS considers applications, comments, and other available information, such as audit reports and site visits, when determining which applicants will be designated.

Authority: 7 U.S.C. 71-87k.

Melissa Bailey,
Associate Administrator, Agricultural Marketing Service.

[FR Doc. 2024-20981 Filed 9-13-24; 8:45 am]

BILLING CODE P